COMMITTEE FOR PURCHASE FROM PEOPLE WHO ARE BLIND OR SEVERELY DISABLED

Procurement List Proposed Additions and Deletions

AGENCY: Committee for Purchase From People Who Are Blind or Severely Disabled.

ACTION: Proposed Additions to and Deletions from Procurement List.

SUMMARY: The Committee is proposing to add to the Procurement List services to be furnished by nonprofit agencies employing persons who are blind or have other severe disabilities, and to delete services previously furnished by such agencies.

Comments Must Be Received On or Before: April 29, 2007.

ADDRESSES: Committee for Purchase From People Who Are Blind or Severely Disabled Jefferson Plaza 2, Suite 10800, 1421 Jefferson Davis Highway, Arlington, VA 22202-3259.

For Further Information or To Submit Comments Contact: Kimberly D. Zeich, Telephone: (703) 603-7740, Fax: (703) 603-0655, or e-mail: CMTEFedReg@jwod.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List.

Comments on this certification are invited. Commenters should identify the statement(s) underlying the certification on which they are providing additional information.

End of Certification

The following services are proposed for addition to Procurement List for production by the nonprofit agencies listed:

Services

Service Type/Location: Custodial Services, Akron Canton Regional Airport (Break and Training Room only), 5400 Lauby Road NW., North Canton, OH.

NPA: The Workshops, Inc., Canton, OH.

Contracting Activity: GSA, Public Buildings Service, Region 5, Cleveland, OH.

Service Type/Location: Custodial Services, Edward Hines Jr. VA Hospital (Hines Campus), 5th Avenue, Roosevelt Road, Hines, IL.

NPA: Jewish Vocational Service and Employment Center, Chicago, IL.

Contracting Activity: Department of Veterans Affairs, Great Lakes Network—Contract Service Center, Milwaukee, WI.

Service Type/Location: Custodial Services, Mauna Loa Observatory (Hilo Office), 1437 Kilauea Ave, Hilo, HI.

NPA: The ARC of Hilo, Hilo, HI.

Contracting Activity: Department of Commerce, NOAA-Mountain, Boulder Labs, Boulder, CO.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the services to the Government.

3. There are no known regulatory alternatives which would accomplish the objectives of the Javits-Wagner-O'Day Act (41 U.S.C. 46-48c) in connection with the services proposed for deletion from the Procurement List.

End of Certification

The following services are proposed for deletion from the Procurement List:

Services

Service Type/Location: Carwash Service, U.S. Department of Interior, Bureau of Land Management, 1661 South Fourth Street, El Centro, CA.

NPA: ARC-Imperial Valley, El Centro, CA.

Contracting Activity: U.S. Department of Interior, Bureau of Land Management, El Centro, CA.

Service Type/Location: Grounds Maintenance, Point Molate Housing Facilities (Only), Richmond, CA.

NPA: North Bay Rehabilitation Services, Inc., Rohnert Park, CA,

Contracting Activity: Department of Homeland Security, U.S. Coast Guard.

Service Type/Location: Janitorial/Custodial, Veterans Affairs Medical Center, Omaha, NE.

NPA: Unknown.

Contracting Activity: Department of Veterans Affairs, Omaha, NE.

Service Type/Location: Publications Distribution, Naval Construction Battalion Center, Pascagoula, MS.

NPA: AbilityWorks, Inc. of Harrison County, Long Beach, MS.

Contracting Activity: Department of the Navy, Naval Supply Center, Pensacola, FL.

Kimberly M. Zeich,
Director, Program Operations.

[FR Doc. E7-5901 Filed 3-29-07; 8:45 am]

BILLING CODE 6353-01-P